DEPARTMENT OF THE TREASURY

Submission for OMB Review; Comment Request

May 19, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 29, 2006 to be assured of consideration.

Internal Revenue Service (IRS)

OMB Number: 1545-1994.

Type of Review: Extension.

Title: Notice 2006-28, Energy Efficient Home Credit; Manufactured Homes.

Description: This notice set forth a process under which a taxpayer who constructs a manufactured home may obtain a certification that the dwelling unit is an energy efficient home that satisfies the requirements of Section 45L(c)(1)(a) and (B) of the Internal Revenue Code. This notice is intended to provide (1) guidance concerning the methods by which taxpayers can construct dwelling units to meet the energy efficiency requirements of Section 45L and certify such units for purposes of the credit, and (2) guidance concerning which software programs can be used to complete the calculation necessary for claiming the credit.

Respondents: Individuals or households.

Estimated Total Burden Hours: 60 hours.

OMB Number: 1545-1995.

Type of Review: Extension.

Title: Notice 2006-27, Certification of Energy Efficient Home Credit.

Description: This notice set forth a process under which a taxpayer who constructs a dwelling unit (other than a manufactured home) may obtain a certification that the dwelling unit is an energy efficient home that satisfies the requirements of Section 45L(c)(1)(a) and (B) of the Internal Revenue Code. This notice is intended to provide (1) guidance concerning the methods by which taxpayers can construct dwelling units to meet the energy efficiency requirements of Section 45L and certify such units for purposes of the credit, and (2) guidance concerning which software programs can be used to complete the calculation necessary for claiming the credit.

Respondents: Individuals or households.

Estimated Total Burden Hours: 135 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Michael A. Robinson,
Treasury PRA Clearance Officer.

[FR Doc. E6-8202 Filed 5-26-06; 8:45 am]

BILLING CODE 4830-01-P